DEPARTMENT OF COMMERCE

International Trade Administration

[A-523-808]

Certain Steel Nails From the Sultanate of Oman: Preliminary Results of Antidumping Duty Administrative Review and Preliminary Determination of No Shipments; 2021-2022

AGENCY: Enforcement and Compliance, International Trade Administration, Department of Commerce.

SUMMARY: The U.S. Department of Commerce (Commerce) is conducting an administrative review of the antidumping duty order on certain steel nails (steel nails) from the Sultanate of Oman (Oman). This review covers 17 exporters and producers from Oman. The period of review (POR) is July 1, 2021, through June 30, 2022. The sole mandatory respondent in this review is Oman Fasteners, LLC (Oman Fasteners). Commerce preliminarily determines that sales of subject merchandise have not been made below normal value (NV) by Oman Fasteners during the POR. In addition, we preliminarily find that Geekay Wires Ltd. (Geekay), Astrotech Steels Private Ltd. (Astrotech), Trinity Steel Pvt. Ltd. (Trinity), and Modern Factory for Metal Products, LLC (Modern) had no shipments during the POR. Interested parties are invited to comment on these preliminary results.

DATES: Applicable August 7, 2023.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On July 1, 2022, Commerce published in the Federal Register a notice of opportunity ¹ to request an administrative review of the antidumping duty (AD) Order on steel nails from Oman.² On September 6, 2022, in accordance with 19 CFR 351.221(c)(1)(i), Commerce published a notice of initiation of an administrative review of the Order.³

¹ See Antidumping or Countervailing Duty Order, Finding, or Suspended Investigation; Opportunity To Request Administrative Review and Join Annual Inquiry Service List, 87 FR 39461 (July 1, 2022).

² See Certain Steel Nails from the Republic of Korea, Malaysia, the Sultanate of Oman, Taiwan, and the Socialist Republic of Vietnam: Antidumping Duty Orders, 80 FR 39994 (July 13, 2015) (Order).

³ See Initiation of Antidumping and Countervailing Duty Administrative Reviews, 87 FR 54463 (September 6, 2022).

On March 2, 2023, in accordance with section 751(a)(3)(A) of the Tariff Act of 1930, as amended (the Act) and 19 CFR 351.213(h)(2), Commerce extended the due date for the preliminary results by 118 days until July 28, 2023.⁴ For a complete description of the events that followed the initiation of this review, see the Preliminary Decision Memorandum.⁵

⁴ See Memorandum, “Extension of Deadline for Preliminary Results of Antidumping Duty Administrative Review,” dated March 2, 2023.

⁵ See Memorandum, “Decision Memorandum for the Preliminary Results of the Antidumping Duty Administrative Review and Preliminary Determination of No Shipments; 2021-2022: Certain Steel Nails from the Sultanate of Oman” dated concurrently with, and hereby adopted by, this notice (Preliminary Decision Memorandum).

A list of the topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise covered by the scope of this Order is steel nails from Oman. A complete description of the scope of the Order is contained in the Preliminary Decision Memorandum.⁶

⁶ Id.

Preliminary Determination of No Shipments

Based upon the no-shipment certifications received by Commerce, and our review of the U.S. Customs and Border Protection (CBP) data, we preliminary find that Geekay, Astrotech, Trinity, and Modern had no shipments during the POR. CBP did not provide any information to contradict the claims of no shipments during the POR.⁷ Consistent with Commerce's practice, we will not rescind the review with respect to Geekay, Astrotech, Trinity, and Modern in these preliminary results, but rather will complete the review and issue appropriate liquidation instructions to CBP based on the final results.⁸ For additional information regarding this determination, see the Preliminary Decision Memorandum.

⁷ See Memorandum, “No Shipment Inquiry for Various Companies During the Period 07/01/2021 Through 06/30/2022,” {sic} dated July 20, 2023.

⁸ See, e.g., Welded Line Pipe from the Republic of Korea: Preliminary Results of Antidumping Duty Administrative Review and Preliminary Determination of No Shipments; 2016-2017, 84 FR 4046, 4047 (February 14, 2019), unchanged in Welded Line Pipe from the Republic of Korea: Final Results of Antidumping Duty Administrative Review and Final Determination of No Shipments; 2016-2017, 84 FR 27762 (June 14, 2019).

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.” However, section 735(c)(5)(B) of the Act provides that if the estimated weighted average dumping margins for exporters and producers individually examined are all zero, de minimis, or based entirely on facts available, Commerce may use any reasonable method to establish the estimated all-others rate.

In this review, we have calculated a weighted-average dumping margin for the sole respondent, Oman Fasteners of zero percent. Accordingly, we have assigned to the companies not individually examined a margin of 0.00 percent, the sole margin calculated in this proceeding.⁹

⁹ See Albemarle Corp. & Subsidiaries v. United States, 821 F.3d 1345, 1353 (Fed. Cir. 2016); see also Certain Hot Rolled Steel Flat Products from Japan: Final Results of Antidumping Duty Administrative Review and Final Determination of No Shipments; 2017-2018, 85 FR 57821 (September 16, 2020).

Methodology

Commerce is conducting this review in accordance with section 751(a)(1)(B) and (2) of the Act. Export price is calculated in accordance with section 772 of the Act. NV is calculated in accordance with section 773 of the Act. For a full description of the methodology underlying these preliminary results, see the Preliminary Decision Memorandum.

Preliminary Results of Review

As a result of this review, Commerce preliminarily determines that the following weighted-average dumping margin exists for the period July 1, 2021, through June 30, 2022:

Producer/exporter | Weighted- average dumping margin (percent)
Oman Fasteners, LLC | 0.00
Al Ansari Teqmark, LLC | 0.00
Al Kiyumi Global LLC | 0.00
Al Sarah Building Materials LLC | 0.00
Buraimi Iron & Steel, LLC | 0.00
CL Synergy (Pvt) Ltd | 0.00
Diamond Foil Trading LLC | 0.00
Gulf Nails Manufacturing, LLC | 0.00
Gulf Steel Manufacturers, LLC | 0.00
Muscat Industrial Company, LLC | 0.00
Muscat Nails Factory Golden Asset Trade, LLC | 0.00
Omega Global Uluslararasi Tasimacilik Lojistik Ticaret Ltd. Sti | 0.00
WWL Indian Private Ltd | 0.00

Verification

As provided in section 782(i)(3) of the Act, Commerce intends to verify certain information reported by Oman Fasteners prior to issuing its final results.

Disclosure and Public Comment

We intend to disclose the calculations performed to parties within five days after public announcement of the preliminary results.¹⁰ Pursuant to 19 CFR 351.309(c), interested parties may submit case briefs containing issues pertaining to Oman Fasteners to Commerce no later than seven days after the date on which the verification report is issued in this administrative review. Rebuttal briefs, limited to issues raised in the case briefs, may be filed not later than seven days after the date for filing case briefs.¹¹ Interested parties who submit case briefs or rebuttal briefs in this proceeding are encouraged to submit with each argument: (1) a statement of the issue; (2) a brief summary of the argument; and (3) a table of authorities.¹² Executive summaries should be limited to five pages total, including footnotes. Note that Commerce has temporarily modified certain of its requirements for serving documents containing business proprietary information, until further notice.¹³

¹⁰ See 19 CFR 351.224(b).

¹¹ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹² See 19 CFR 351.309(c)(2) and (d)(2).

¹³ See Temporary Rule Modifying AD/CVD Service Requirements Due to COVID-19; Extension Effective Period, 85 FR 41363 (July 10, 2020) (Temporary Rule).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice. Commerce intends to issue the final results of this administrative review, including the results of its analysis of the issues raised in any written briefs, not later than 120 days after the date of publication of this notice, unless extended, pursuant to section 751(a)(3)(A) of the Act.

Assessment Rates

Upon completion of this administrative review, Commerce shall determine, and CBP shall assess, antidumping duties on all appropriate entries in accordance with 19 CFR 351.212(b). If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

For entries of subject merchandise during the POR produced by an individually examined respondent for which it did not know its merchandise was destined for the United States, we intend to instruct CBP to liquidate such entries at the all-others rate (i.e., 9.10 percent) if there is no rate for the intermediate company(ies) involved in the transaction.¹⁴

¹⁴ For a full discussion of this practice, see Antidumping and Countervailing Duty Proceedings: Assessment of Antidumping Duties, 68 FR 23954 (May 6, 2003).

If we continue to find in the final results that Geekay, Astrotech, Trinity, and Modern had no shipments of subject merchandise during the POR, we will instruct CBP to liquidate any suspended entries that entered under their antidumping duty case numbers (i.e., at that exporter's rate) at the all-others rate if there is no rate for the intermediate company(ies) involved in the transaction. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of steel nails from Oman entered, or withdrawn from warehouse, for consumption on or after the date of publication of the final results of this administrative review, as provided for by section 751(a)(2)(C) of the Act: (1) the cash deposit rate for Oman Fasteners will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair value investigation, but the manufacturer is, the cash deposit rate will be the rate established for the most recent period for the manufacturer of the merchandise; and (4) the cash deposit rate for all other producers or exporters is 9.10 percent.¹⁵ These cash deposit requirements, when imposed, shall remain in effect until further notice.

¹⁵ See Order.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act and 19 CFR 351.221(b)(4).

Dated: July 28, 2023.
Lisa. W. Wang,
Assistant Secretary for Enforcement and Compliance.

Appendix—List of Topics Discussed in the Preliminary Decision Memorandum

I. Summary

II. Background

III. Scope of the Order

IV. Preliminary Determination of No Shipments

V. Companies not Selected for Individual Examination

VI. Discussion of the Methodology

VII. Currency Conversion

VIII. Recommendation

[FR Doc. 2023-16823 Filed 8-4-23; 8:45 am]

BILLING CODE 3510-DS-P